DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than September 4, 2020.

Interested persons are invited to submit written comments regarding the subject matter of the investigations to the Administrator, Office of Trade Adjustment Assistance, at the address shown below, not later than September 4, 2020.

The petitions filed in this case are available for inspection at the Office of the Administrator, Office of Trade Adjustment Assistance, Employment and Training Administration, U.S. Department of Labor, Room N-5428, 200 Constitution Avenue NW, Washington, DC 20210.

Signed at Washington, DC, this 10th day of August 2020.
Hope D. Kinglock,
Certifying Officer, Office of Trade Adjustment Assistance.

Appendix

91 TAA Petitions Instituted Between 7/1/20 and 7/31/20
TA-W | Subject firm (petitioners) | Location | Date of institution | Date of petition
96025 | Elli Mess Kountry Café (Company) | Moultrie, GA | 07/01/20 | 07/01/20
96026 | Ponderay Newsprint Company (Union) | Usk, WA | 07/01/20 | 06/29/20
96027 | Web.com (Workers) | Drums, PA | 07/01/20 | 07/01/20
96028 | AIG Employee Services, Inc (State/One-Stop) | New York, NY | 07/02/20 | 07/01/20
96029 | The Boeing Company Seal Beach (Workers) | Seal Beach, CA | 07/02/20 | 07/01/20
96030 | FTE Automotive USA Inc. (Valeo) (State/One-Stop) | Auburn Hills, MI | 07/02/20 | 07/01/20
96031 | Beyondsoft workers on site at HP Inc (State/One-Stop) | Boise, ID | 07/02/20 | 07/01/20
96032 | IDL Technidege (Stanley Black & Decker) (Company) | Kenilworth, NJ | 07/02/20 | 07/01/20
96033 | Safran Cabin (State/One-Stop) | Marysville, WA | 07/02/20 | 07/01/20
96034 | Selmet, Inc. (State/One-Stop) | Albany, OR | 07/02/20 | 07/01/20
96035 | Starmark Cabinetry (State/One-Stop) | Sioux Falls, SD | 07/02/20 | 07/01/20
96036 | Treasury Wine Estates, Americas Company (Workers) | Napa, CA | 07/02/20 | 07/01/20
96037 | Rolls-Royce Crosspointe (State/One-Stop) | Prince George, VA | 07/06/20 | 07/02/20
96038 | Arcelormittal Indiana Harbor (State/One-Stop) | East Chicago, IN | 07/07/20 | 07/07/20
96039 | ITT—Connect & Control Technologies—BIW Connector Systems (Company) | Santa Rosa, CA | 07/07/20 | 07/06/20
96040 | Meggitt-Oregon, Inc. (State/One-Stop) | McMinnville, OR | 07/07/20 | 07/06/20
96041 | Advance Auto Business Support, LLC (AABS) (State/One-Stop) | Roanoke, VA | 07/08/20 | 07/07/20
96042 | Chick Master Incubator Company (State/One-Stop) | Medina, OH | 07/08/20 | 07/07/20
96043 | GKN Aerospace (State/One-Stop) | Wellington, KS | 07/08/20 | 07/07/20
96044 | PCC Schlosser (PCC Structurals) (State/One-Stop) | Redmond, OR | 07/08/20 | 07/07/20
96045 | Triumph Aerostructures (State/One-Stop) | Grand Prairie, TX | 07/08/20 | 07/07/20
96046 | Triumph Aerostructures, Vought Aircraft Division (State/One-Stop) | Red Oak, TX | 07/08/20 | 07/07/20
96047 | Bates Rubber LLC (Company) | Lobelville, TN | 07/09/20 | 07/08/20
96048 | Vallourec Star (State/One-Stop) | Youngstown, OH | 07/09/20 | 07/08/20
96049 | AK Coal Resources (State/One-Stop) | Friedens, PA | 07/10/20 | 07/09/20
96050 | AHI Small Business Facility Services (Workers) | Conway, AR | 07/10/20 | 07/09/20
96051 | GHD Services Inc., Finance Department (State/One-Stop) | Niagara Falls, NY | 07/13/20 | 07/10/20
96052 | Hoya Optical Labs (State/One-Stop) | Plymouth, IN | 07/14/20 | 07/13/20
96053 | Trane Technologies (Union) | LaCrosse, WI | 07/14/20 | 07/13/20
96054 | Constellium Rolled Products Ravenswood LLC (Union) | Ravenswood, WV | 07/15/20 | 07/13/20
96055 | Paccar Winch (Workers) | Broken Arrow, OK | 07/15/20 | 07/14/20
96056 | Spirit Aerosystems (McAlester) (Union) | McAlester, OK | 07/15/20 | 07/13/20
96057 | The Boeing Company (State/One-Stop) | Saint Louis, MO | 07/15/20 | 07/14/20
96058 | Wool Felt Products dba Collegiate Pacific (State/One-Stop) | Roanoke, VA | 07/15/20 | 07/14/20
96059 | Arauco North America, Inc. (State/One-Stop) | Albany, OR | 07/16/20 | 07/15/20
96060 | Dal Title Corporation/Dal Title Distribution (State/One-Stop) | Dallas, TX | 07/16/20 | 07/15/20
96061 | Daramic, LLC (State/One-Stop) | Corydon, IN | 07/16/20 | 07/15/20
96062 | Horizon Terra, Inc. dba idX Louisville (State/One-Stop) | Jeffersonville, IN | 07/16/20 | 07/15/20
96063 | Kaiser Aluminum (Union) | Spokane Valley, WA | 07/16/20 | 07/08/20
96064 | Textron Aviation Inc. (State/One-Stop) | Wichita, KS | 07/16/20 | 07/15/20
96065 | NTT Data Services LLC (State/One-Stop) | Lincoln, NE | 07/17/20 | 07/16/20
96066 | Akebono Brake Corporation (Akebono) Clarksville Plant) (State/One-Stop) | Clarksville, TN | 07/20/20 | 07/17/20
96067 | Bed Bath & Beyond, Inc. (State/One-Stop) | Providence, RI | 07/20/20 | 07/17/20
96068 | Halliburton (State/One-Stop) | Duncan, OK | 07/20/20 | 07/17/20
96069 | NTT Security (Workers) | Omaha, NE | 07/20/20 | 07/18/20
96070 | Pier 1 Imports, Inc. (State/One-Stop) | Warwick, RI | 07/20/20 | 07/17/20
96071 | BAE Systems (Union) | Fort Wayne, IN | 07/21/20 | 07/20/20
96072 | Phelps Dodge Industries, Inc. dba Freeport-McMoRan Copper Products (State/One-Stop) | Norwich, CT | 07/21/20 | 07/21/20
96073 | SeAH Steel USA (State/One-Stop) | Houston, TX | 07/21/20 | 07/20/20
96074 | Saulsbury Industries, Inc. (State/One-Stop) | Henderson, TX | 07/22/20 | 07/21/20
96075 | Southern Finishing Company (State/One-Stop) | Martinsville, VA | 07/22/20 | 07/21/20
96076 | Watlow Electric Manufacturing Company (Company) | Richmond, IL | 07/22/20 | 07/21/20
96077 | Asarco (Union) | Hayden, AZ | 07/23/20 | 07/22/20
96078 | Cadence Aerospace—Precision Machine Works (Union) | Tacoma/Everett, WA | 07/23/20 | 07/14/20
96079 | Cambria (State/One-Stop) | Belle Plaine, MN | 07/23/20 | 07/22/20
96080 | Hemlock Semiconductor (State/One-Stop) | Hemlock, MI | 07/23/20 | 07/22/20
96081 | Overhead Door (State/One-Stop) | Marion, OH | 07/23/20 | 07/22/20
96082 | SEG Automotive North America LLC (Workers) | Novi, MI | 07/23/20 | 07/22/20
96083 | Sekisui Aerospace, Inc. (State/One-Stop) | Renton/Sumner/Auburn, WA | 07/23/20 | 07/22/20
96084 | Vibracoustic North America LP (State/One-Stop) | Ligonier, IN | 07/23/20 | 07/22/20
96085 | Gitman and Company, IAG (Company) | New York, NY | 07/24/20 | 07/23/20
96086 | Huntington Alloys Corporation (Union) | Huntington, WV | 07/24/20 | 07/23/20
96087 | IQVIA, Inc. (State/One-Stop) | Durham, NC | 07/24/20 | 07/22/20
96088 | Kerotest (Union) | Pittsburg, PA | 07/24/20 | 07/22/20
96089 | LMI Aerospace (State/One-Stop) | Fredonia, KS | 07/24/20 | 07/23/20
96090 | NortonLifelock, Inc. (Broadcom, Inc.) (State/One-Stop) | Springfield, OR | 07/24/20 | 07/23/20
96091 | Somerset Operating Company—Heorot Power (Workers) | Barker, NY | 07/24/20 | 07/23/20
96092 | Advanced Assembly LLC (State/One-Stop) | Columbia City, IN | 07/27/20 | 07/24/20
96093 | Autoneum North America Inc. (State/One-Stop) | Jeffersonville, IN | 07/27/20 | 07/27/20
96094 | BASF Erie (Workers) | Erie, PA | 07/27/20 | 07/23/20
96095 | HF Rubber Machinery, Inc. (State/One-Stop) | Topeka, KS | 07/27/20 | 07/24/20
96096 | Keihin IPT Manufacturing, LLC (State/One-Stop) | Greenfield, IN | 07/27/20 | 07/24/20
96097 | Pacific Paper (Workers) | Memphis, TN | 07/27/20 | 07/24/20
96098 | Press Kogyo (P.K. USA) (State/One-Stop) | Shelbyville, IN | 07/27/20 | 07/24/20
96099 | SLD of the Adidas Group—Reebok (State/One-Stop) | Indianapolis, IN | 07/27/20 | 07/24/20
96100 | Verso Wisconsin River (Union) | Wisconsin Rapids, WI | 07/27/20 | 07/24/20
96101 | Simmons Pet Foods (State/One-Stop) | Pennsauken, NJ | 07/28/20 | 07/27/20
96102 | Sonic (Workers) | Memphis, TN | 07/28/20 | 07/24/20
96103 | State Street Corporation (State/One-Stop) | Boston, MA | 07/28/20 | 07/27/20
96104 | Titan Wheel Corporation of Virginia (State/One-Stop) | Saltville, VA | 07/28/20 | 07/27/20
96105 | Ulterra (State/One-Stop) | Williston, ND | 07/28/20 | 07/27/20
96106 | Veritas Technologies LLC (Workers) | Lake Mary, FL | 07/28/20 | 07/27/20
96107 | Whelen Engineering (State/One-Stop) | Charlestown, NH | 07/28/20 | 07/27/20
96108 | Cargill Cocoa and Chocolate (Workers) | Hazle Township, PA | 07/29/20 | 07/28/20
96109 | KRA International (State/One-Stop) | Mishawaka, IN | 07/29/20 | 07/28/20
96110 | TIMET, A PCC Company (Union) | Henderson, NV | 07/29/20 | 07/21/20
96111 | Associated Spring (Company) | Corry, PA | 07/30/20 | 07/29/20
96112 | Columbus-Mckinnon Corporation (State/One-Stop) | Damascus, VA | 07/30/20 | 07/29/20
96113 | McNeilus Truck and Manufacturing (State/One-Stop) | Dodge Center, MN | 07/30/20 | 07/29/20
96114 | Pal American Security (Company) | Evansville, IN | 07/30/20 | 07/29/20
96115 | A&H Sportswear Company Inc. (Company) | Stockertown, PA | 07/31/20 | 07/30/20

[FR Doc. 2020-18663 Filed 8-24-20; 8:45 am]

BILLING CODE 4510-FN-P